ENVIRONMENTAL PROTECTION AGENCY

[FRL-8276-9]

Science Advisory Board Staff Office; Notification of a Public Meeting of the Science Advisory Board Hypoxia Advisory Panel

AGENCY: Environmental Protection Agency (EPA).

ACTION: Notice.

SUMMARY: The EPA's Science Advisory Board (SAB) Staff Office is announcing a public meeting of the SAB Hypoxia Advisory Panel to discuss the science concerning the hypoxic zone in the Gulf of Mexico.

DATES: The meeting will be held from February 28-March 2, 2007.

ADDRESSES: The meeting will be held at the SAB Conference Center located at 1025 F Street, NW., Washington, DC 20004.

FOR FURTHER INFORMATION CONTACT: Any member of the public wishing further information regarding the public meeting may contact Dr. Holly Stallworth, Designated Federal Officer (DFO), U.S. EPA Science Advisory Board Staff Office by telephone/voice mail at (202) 343-9867, or via e-mail at stallworth.holly@epa.gov. The SAB mailing address is: U.S. EPA, Science Advisory Board (1400F), 1200 Pennsylvania Avenue, NW., Washington, DC 20460. General information about the SAB, as well as any updates concerning the meeting announced in this notice, may be found in the SAB Web site at: http://www.epa.gov/sab.

SUPPLEMENTARY INFORMATION: Pursuant to the Federal Advisory Committee Act, Public Law 92-463, notice is hereby given that the SAB Hypoxia Advisory Panel will hold a public meeting to develop a report that details advances in the state-of-the science regarding hypoxia in the Northern Gulf of Mexico. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: EPA participates with other Federal agencies, states and tribes in the Mississippi River/Gulf of Mexico Watershed Nutrient Task Force. In 2001, the Task Force released the Action Plan for Reducing, Mitigating and Controlling Hypoxia in the Northern Gulf of Mexico (or Action Plan available at http://www.epa.gov/msbasin/taskforce/actionplan.htm). The Action Plan was informed by the science described in An Integrated Assessment of Hypoxia in the Northern Gulf of Mexico (or Integrated Assessment available at http://www.noaa.gov/products/hypox_finalfront.pdf) developed by the National Science and Technology Council, Committee on Environment and Natural Resources. Six technical reports provided the scientific foundation for the Integrated Assessment and are available at http://www.nos.noaa.gov/products/pub_hypox.html. The aforementioned documents provide a comprehensive summary of the state-of-the-science for the Gulf of Mexico hypoxic zone through about the year 2000. EPA's Office of Water has requested that the SAB develop a report that evaluates the state-of-the-science regarding the causes and extent of hypoxia in the Gulf of Mexico, as well as the scientific basis of possible management options in the Mississippi River Basin.

In response to EPA's request, the SAB Staff Office formed the SAB Hypoxia Advisory Panel. Background on the Panel formation process was provided in a Federal Register notice published on February 17, 2006 (71 FR 8578-8580). The SAB Hypoxia Advisory Panel met on September 6-7, 2006 (noticed in 71 FR 45543-45544) and again on December 6-8, 2006 (noticed in 71 FR 66329-66330). Teleconferences of the full Hypoxia Advisory Panel and its three subgroups have also been published in Federal Register notices (71 FR 55786-55787, 71 FR 59107 and 71 FR 77743-77744). Information about the SAB Hypoxia Advisory Panel is available on the SAB Web site at: http://www.epa.gov/sab.

Availability of Meeting Materials: Materials in support of this meeting will be placed on the SAB Web site http://www.epa.gov/sab/ in advance of the meeting.

Procedures for Providing Public Input: Interested members of the public may submit relevant written or oral information for the SAB to consider during the advisory process.

Oral Statements: In general, individuals or groups requesting an oral presentation at a public meeting will be limited to five minutes per speaker, with no more than a total of one hour for all speakers. Interested parties should contact Dr. Stallworth, DFO, at the contact information noted above, no later than February 20, 2007, to be placed on the public speaker list for the February 28-March 2, 2007 meeting.

Written Statements: Written statements should be received in the SAB Staff Office no later than February 20, 2007 so that the information may be made available to the SAB for their consideration prior to this meeting. Written statements should be supplied to the DFO in the following formats: One hard copy with original signature, and one electronic copy via e-mail to stallworth.holly@epa.gov (acceptable file format: Adobe Acrobat PDF, WordPerfect, MS Word, MS PowerPoint, or Rich Text files in IBM-PC/Windows 98/2000/XP format).

Meeting Access: For information on access or services for individuals with disabilities, please contact Dr. Stallworth at (202) 343-9867 or stallworth.holly@epa.gov. To request accommodation of a disability, please contact Dr. Stallworth, preferably at least 10 days prior to the meeting to give EPA as much time as possible to process your request.

Dated: February 1, 2007.
Anthony F. Maciorowski,
Deputy Director, EPA Science Advisory Board Staff Office.

[FR Doc. E7-2116 Filed 2-7-07; 8:45 am]

BILLING CODE 6560-50-P